DEPARTMENT OF COMMERCE

International Trade Administration

Application(s) for Duty-Free Entry of Scientific Instruments

Pursuant to Section 6(c) of the Educational, Scientific and Cultural Materials Importation Act of 1966 (Pub. L. 89-651, as amended by Public Law 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before December 16, 2013. Address written comments to Statutory Import Programs Staff, Room 3720, U.S. Department of Commerce, Washington, DC 20230. Applications may be examined between 8:30 a.m. and 5:00 p.m. at the U.S. Department of Commerce in Room 3720.

Docket Number: 13-030. Applicant: South Dakota State University, Box 2202 N Rotunda, Brookings, SD 57007. Instrument: iMIC Andromeda. Manufacturer: Till Photonics, Germany. Intended Use: The instrument will be used to fluorescently label the macrophage colony stimulating factor (MCSF) and other signaling molecules in live primary bone marrow macrophages (BMMs). This instrument is the only confocal using a single micro lens disk, making it the only spinning disk system available that meets the needs for fast, multi fluorophore and Fluorescence Resonance Energy Transfer experiments over a range of objective lens magnifications. Furthermore, it is the only instrument that can rapidly interchange custom dichtroich mirrors, which is essential for experiments relying on new fluorescent proteins. Justification for Duty-Free Entry: There are no instruments of the same general category manufactured in the United States. Application accepted by Commissioner of Customs: September 20, 2013.

Docket Number: 13-043. Applicant: University of Colorado at Boulder, 1111 Engineering Drive 428 UCB, ECOT 514, University of Colorado at Boulder, Boulder, CO 80309. Instrument: Cyclic Triaxial Testing Device. Manufacturer: Wille Geotechnik, Germany. Intended Use: The instrument will be used to study the response of soils under monotonic static loading compared to 1-D and 2-D cyclic loading, evaluate the influence of load amplitude and frequency content on the response of soils in terms of shear modulus and damping versus strain, and evaluate the influence of soil-content on its dynamic properties. It is critical to have the capability to simulate realistic static and dynamic stress conditions to the soil samples, which is facilitated by the instrument. The key specification in the research that was satisfied by the instrument is the ability to apply cyclic loading at high frequencies (up to about 30Hz) to simulate earthquake loading. The instrument is also capable of testing soil samples larger than 70mm, the pressure system/pressure controller has a resolution of 0.1 KPa which provides greater accuracy, and the load frame capacity for both static and dynamic loading is 25 KN. Justification for Duty-Free Entry: There are no instruments of the same general category manufactured in the United States. Application accepted by Commissioner of Customs: September 26, 2013.

Dated: November 19, 2013.
Gregory W. Campbell,
Director of Subsidies Enforcement, Enforcement and Compliance.

[FR Doc. 2013-28357 Filed 11-25-13; 8:45 am]

BILLING CODE 3510-DS-P